DEPARTMENT OF COMMERCE

National Oceanic and Atmospheric Administration

Agency Information Collection Activities; Submission to the Office of Management and Budget (OMB) for Review and Approval; Comment Request; Emergency Beacon Registrations

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on April 28, 2025 during a 60-day comment period. This notice allows for an additional 30 days for public comments.

Agency: National Oceanic and Atmospheric Administration, Commerce.

Title: Emergency Beacon Registrations.

OMB Control Number: 0648-0295.

Form Number(s): None.

Type of Request: Regular; Revision and extension of an approved collection.

Number of Respondents: 376,063.

Average Hours per Response: 15 minutes.

Total Annual Burden Hours: 94,016.

Needs and Uses: This is a request from NOAA's National Environmental Satellite, Data, and Information Service for extension and revision of an approved information collection: Emergency Beacon Registrations (OMB Control Number 0648-0295).

The United States, Canada, France, and Russia operate the Search and Rescue Satellite-Aided Tracking (COSPAS/SARSAT), a satellite system with equipment that can detect and locate ships, aircraft and individuals in distress if an emergency radio beacon is being carried. This system is used to detect digitally encoded signals in the 406.000-406.100 MHz range, coming from these emergency beacons. The 406.000-406.100 MHz beacons transmit a unique identifier, making possible the ability to combine previously collected data associated with that beacon and transmit this vital data along with the beacon's position to the appropriate rescue coordination center.

Persons buying 406.000-406.100 MHz emergency radio beacons are required to register them with NOAA prior to installation. These requirements are contained in Federal Communications Commission (FCC) regulations at 47 CFR 80.1061, 47 CFR 87.199 and 47 CFR 95.1402.

The registration data is used to facilitate a rescue and to suppress the costly consequences of false alarms, which if unsuppressed would initiate the launch of a rescue mission and thereby deplete limited resources and possibly result in the loss of lives. This is accomplished through the use of the data provided to the rescue forces from the beacon registration database maintained by the NOAA's United States Mission Control Center (USMCC) for Search and Rescue, to contact the distressed person(s) or alternate party via a phone call or radio broadcast. Other data provides rescuers with descriptive material of the element in distress. The registration information must be kept up-to-date.

Four registration forms are used: (1) The EPIRB (Emergency Position Indicating Radio Beacon) form is used for nautical beacons; (2) The ELT (Emergency Locator Transmitter) form is used for aircraft beacons; (3) The PLB (Personal Locator Beacon) form is used to register portable beacons carried by individuals; and (4) Ship Security Alerting System (SSAS) beacons are carried aboard ships, are similar to EPIRBs and are used in the event of an emergency situation such as piracy or terrorism.

The PLB form, used for both watercraft and aircraft, is being updated to allow the collection and sharing of additional data with search and rescue (SAR) forces in order to aid in a successful SAR response. If the user checks that their “VEHICLE TYPE” is “Boat”, they are asked to complete the following additional fields: Vessel Name, Federal/State Registration No., Home Port Marina/Dock, City and State (ST). If the user checks that their “VEHICLE TYPE” is “Aircraft”, they are asked to complete the following additional fields: Airport Code, City and State (ST). The city and state of the marina or airport is needed to help SAR forces to quickly locate the airport/marina where the aircraft/boat is stored permanently. This helps SAR forces to identify false alerts (i.e., if the beacon goes off where the aircraft/boat is stored, it is likely to be a false alert). Likewise, if a distress situation is suspected, SAR forces can call the airport/marina to get more information on the owner and the owner's whereabouts.

The EPIRB and SSAS forms were updated to have separate lines for Inmarsat number and Iridium number. Inmarsat and Iridium are both global satellite communication providers, but they utilize different satellite constellations and offer varying coverage and features. Mariners may use either option for emergency communications on board vessels and listing both options allows registered owners to select the option that is applicable to them. The EPIRB and SSAS forms were updated to have two separate lines for Inmarsat number and Iridium number.

In addition, all four forms are being updated to streamline wording, update the instructions, and add the beacon registration email address (beacon.registration@noaa.gov).

Affected Public: Individuals or households; Business or other for-profit organizations; Not-for-profit institutions; State, Local, or Tribal government; Federal government.

Frequency: As required.

Respondent's Obligation: Mandatory.

Legal Authority: Federal Communications Commission (FCC) regulations at 47 CFR 80.1061, 47 CFR 87.199 and 47 CFR 95.1402.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0295.

Sheleen Dumas,
Departmental PRA Compliance Officer, Office of the Under Secretary for Economic Affairs, Commerce Department.

[FR Doc. 2025-14471 Filed 7-30-25; 8:45 am]

BILLING CODE 3510-HR-P